DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Usage of Elevators for Occupant Evacuation Questionnaire.

OMB Control Number: None.

Form Number(s): None.

Type of Request: Regular submission (new information collection).

Burden Hours: 375.

Number of Respondents: 1,500.

Average Hours per Response: 15 minutes.

Needs and Uses: NIST's research on elevators has primarily focused on the technical aspects of ensuring safe and reliable evacuation for the occupants of tall buildings. In addition, the International Code Council and the National Fire Protection Association provide requirements for the use of elevators for both occupant evacuation and fire fighter access into the building. However, there still is little understanding of how occupants use elevator systems during fire emergencies.

The main focus of this research effort is to gain an understanding of how elevators are currently used by occupants of existing multi-story buildings in the United States during fire emergencies. This research aims to summarize emergency plans and procedures from buildings that make use of one or multiple elevators from the existing elevator system (used for normal building traffic) for the evacuation of building occupants during fire emergencies. Building managers and designated safety personnel (familiar with or in charge of developing emergency procedures for multi-story buildings) from existing buildings in the United States, including federal buildings, will be contacted to fill out a questionnaire asking about how the buildings' evacuation plans incorporate the use of the existing elevator system to evacuate occupants during fire emergencies, specifically individuals with disabilities, if at all.

Affected Public: Federal government; Business or other for-profit organizations.

Frequency: One-time.

Respondent's Obligation: None.

OMB Desk Officer:. Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to, OMB Desk Officer, Jasmeet Seehra, (202) 395-3123, FAX Number (202) 395-5167, or Jasmeet_K._Seehra@omb.eop.gov).

Dated: June 30, 2011.
Gwellnar Banks,
Management Analyst, Office of the Chief Information Officer.

[FR Doc. 2011-16917 Filed 7-6-11; 8:45 am]

BILLING CODE 3510-13-P